DEPARTMENT OF JUSTICE

[Docket No. ODAG 163]

Notice of Public Comment Period on Revised Federal Advisory Committee Work Products

AGENCY: Department of Justice.

ACTION: Notice.

SUMMARY: This notice announces the opening of the comment period on revised subcommittee draft work products of the National Commission on Forensic Science.

DATES: Written public comment regarding revised subcommittee draft work products of the National Commission on Forensic Science meeting materials should be submitted through www.regulations.gov before August 15, 2016.

FOR FURTHER INFORMATION CONTACT: Jonathan McGrath, Ph.D., Senior Policy Analyst at the National Institute of Justice and Designated Federal Official, 810 7th Street NW., Washington, DC 20531, by email at Jonathan.McGrath@usdoj.gov by phone at (202) 514-6277.

SUPPLEMENTARY INFORMATION: On May 26, 2016, the Department of Justice published in the Federal Register a Notice announcing the June 20-21, 2016, Federal Advisory Committee Meeting of the National Commission on Forensic Science (81 FR 33550). During the Commission proceedings on June 20-21, 2016, subcommittees were provided an opportunity to revise existing draft work products. This Notice announces a public comment period to provide an opportunity for submitting comments for the revised work products.

Pursuant to section 10(a)(3) of the FACA and 41 CFR 102-3.105(j) and 102-3.140, the public or interested organizations may submit written comments to the Commission in response to the revised draft work products. Work products are available on the Commission's Web site: http://www.justice.gov/ncfs/work-products and on www.regulations.gov.

Dated: July 7, 2016.
Victor W. Weedn,
Senior Forensic Advisor to the Deputy Attorney General, U.S. Department of Justice.

[FR Doc. 2016-16682 Filed 7-13-16; 8:45 am]

BILLING CODE 4410-18-P